DEPARTMENT OF LABOR

Mine Safety and Health Administration

30 CFR Part 57

RIN 1219-AB29

Diesel Particulate Matter Exposure of Underground Metal and Nonmetal Miners

AGENCY: Mine Safety and Health Administration (MSHA), Labor.

ACTION: Proposed rule; limited reopening of comment period.

SUMMARY: This document announces a limited reopening of the comment period on the notice of proposed rulemaking, published in the Federal Register on August 14, 2003, to obtain public comment on three new documents related to this rulemaking. We will consider these comments as we develop the final rule.

DATES: Comments must be received by April 5, 2004.

ADDRESSES: You may submit comments, identified by RIN 1219-AB29, by any of the following methods:

• Federal eRulemaking Portal: http://www.regulations.gov.

• E-mail: comments@msha.gov. Include “RIN 1219-AB29” in the subject line of the message.

• Fax: (202) 693-9441.

• Mail, Hand Delivery, or Courier: MSHA, 1100 Wilson Blvd, Room 2350, Arlington, Virginia 22209.

Instructions: All comments, including any personal information contained therein, will be posted without change to http://www.msha.gov/currentcomments.htm.

Docket: The entire rulemaking record may be viewed in MSHA's public reading room at 1100 Wilson Boulevard, Room 2349, Arlington, Virginia.

FOR FURTHER INFORMATION CONTACT: Marvin W. Nichols, Jr., Director, Office of Standards, Regulations, and Variances, MSHA, 1100 Wilson Blvd., Room 2350, Arlington, Virginia 22209-3939, Nichols.Marvin@dol.gov, (202) 693-9440 (telephone), or (202) 693-9441 (facsimile).

SUPPLEMENATARY INFORMATION:

Background

On January 19, 2001, we published a rule at 66 FR 5706 that established new health standards for underground metal and nonmetal miners by requiring use of approved equipment and low sulfur fuel, and by setting an interim and final concentration limit for diesel particulate matter (DPM) in the underground mining environment. Under a settlement agreement reached in response to legal challenges to the 2001 rule, we amended portions of the rule on February 27, 2002 (67 FR 9180), and initiated this rulemaking. We published the advance notice of proposed rulemaking (ANPRM) on September 25, 2002 (67 FR 60199), and published the proposed rule on August 14, 2003 (68 FR 48668). The proposed rule would revise the interim concentration limit; designate elemental carbon as the surrogate for measuring DPM for the interim limit; allow an extension of time in which to achieve compliance with the interim limit; apply our longstanding hierarchy of controls used for other exposure-based health standards for metal and nonmetal mines, including engineering and administrative controls supplemented by respiratory protection, but prohibit rotation of miners; and revise the requirements for the DPM control plan. Four public hearings were held on the proposed rule between September 16, 2003 and October 7, 2003. The comment period closed on October 14, 2003. The legal challenge is stayed pending completion of additional rulemaking actions.

Limited Reopening of Comment Period

We recently received new information related to this rulemaking, and concluded that it is in the public interest to obtain comments on this information. Therefore, the comment period is reopened for the limited purpose of obtaining public comment on:

• U.S. Department of Health and Human Services, Center for Disease Control, National Institute of Occupational Safety and Health, “The Effectiveness of Selected Technologies in Controlling Diesel Emissions in an Underground Mine—Isolated Zone Study at Stillwater Mining Company's Nye Mine,” January 5, 2004.

In addition, two other documents have come to the Agency's attention and MSHA is also seeking comments on:

• U.S. Department of Labor, Bureau of Labor Statistics, and U.S. Department of Health and Human Services, Center for Disease Control, National Institute of Occupational Safety and Health, “Respirator Usage in Private Sector Firms, 2001,” September, 2003.

• Chase, Gerald, “Characterizations of Lung Cancer in Cohort Studies and a NIOSH Study on Health Effects of Diesel Exhaust in Miners,” undated, received January 5, 2004.

These documents can be accessed at http://www.msha.gov. We invite public comment on the findings of these documents and their impact on this rulemaking. We will disregard any comments that are outside the scope of these documents.

Dated: February 13, 2004.
Dave D. Lauriski,
Assistant Secretary of Labor for Mine Safety and Health.

[FR Doc. 04-3656 Filed 2-19-04; 8:45 am]

BILLING CODE 4510-43-P